DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed three-year extension of EIA Form EIA-914 Monthly Natural Gas Production Report.

DATES: Comments must be filed by May 10, 2010. If you anticipate difficulty in submitting comments within that period, contact the person listed below as soon as possible.

ADDRESSES: Send comments to Ms. Rhonda Green at Department of Energy, Energy Information Administration, Reserves and Production Division, 1999 Bryan Street, Suite 1110, Dallas, Texas 75201-6801. To ensure receipt of the comments by the due date, submission by e-mail (rhonda.green@eia.doe.gov) or FAX 214-720-6155 is recommended. Alternatively, Ms. Green may be contacted by telephone at 214-720-6161.

FOR FURTHER INFORMATION CONTACT: Requests for additional information or copies of any forms and instructions should be directed to Ms. Rhonda Green at the contact information listed above. The proposed forms and instructions are also available on the Internet at: http://www.eia.doe.gov/oil_gas/natural_gas/survey_forms/nat_survey_forms.html.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

Currently a sample of operators of natural gas wells report on the Form EIA-914. From a universe of about 9,300 active operators, a cut-off sample is selected of 243 largest natural gas producers by state or area, known to have produced at least 20 million cubic feet (10 million cubic feet in Oklahoma) of natural gas per day in 2009. Using information collected on Form EIA-914, EIA estimates and disseminates timely and reliable monthly natural gas production data for Texas (onshore and offshore) and Louisiana (onshore and offshore), New Mexico, Oklahoma, Wyoming, the Federal Offshore Gulf of Mexico, Other States (onshore and offshore for the remaining gas producing States with Alaska excluded), and the lower 48 States. This collection is essential to the mission of the DOE in general and the EIA in particular because of the increasing demand for natural gas in the United States and the requirement for accurate and timely natural gas production information necessary to monitor the United States natural gas supply and demand balance. These estimates are essential to the development, implementation, and evaluation of energy policy and legislation. Data are disseminated through the EIA Natural Gas Monthly and EIA Natural Gas Annual Web site. Secondary publications that use the data include EIA's Short-Term Energy Outlook, Annual Energy Outlook, Monthly Energy Review, and Annual Energy Review.

II. Current Actions

Currently EIA asks operators to resubmit if actual or corrected data vary more than plus or minus four percent (4%) from the data previously reported. The proposed change would ask that operators resubmit any change in previously reported data. This will make the instructions consistent with the way operators actually report now, i.e., without regard to a four percent difference threshold on revision submissions.

III. Request for Comment

Prospective respondents and other interested parties should comment on the actions discussed in item II. The following guidelines are provided to assist in the preparation of comments.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average 3 hours per respondent monthly. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 13(b) of the Federal Energy Administration Act of 1974, Pub. L. 93-275, codified at 15 U.S.C. 772(b).

Issued in Washington, DC, March 4, 2010.
Stephanie Brown,
Director, Statistics and Methods Group, Energy Information Administration.

[FR Doc. 2010-5082 Filed 3-9-10; 8:45 am]

BILLING CODE 6450-01-P